DEPARTMENT OF TRANSPORTATION

Federal Railroad Administration

[Docket No. FRA-2024-0008]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before April 22, 2024.

ADDRESSES: Written comments and recommendations for the proposed ICR should be submitted on regulations.gov to the docket, Docket No. FRA-2024-0008. All comments received will be posted without change to the docket, including any personal information provided. Please refer to the assigned OMB control number (2130-0632) in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Metrics and Minimum Standards for Intercity Passenger Train Operations.

OMB Control Number: 2130-0632.

Abstract: In November 2020, in connection with a Congressional mandate, FRA published a final rule titled Metrics and Minimum Standards for Intercity Passenger Train Operations. (49 CFR part 273). The final rule established metrics and a minimum standard for measuring the performance and service quality of intercity passenger train operations, including cost recovery, on-time performance and minutes of delay, ridership, on-board services, stations, facilities, equipment, and other services.¹

¹ See 85 FR 72971.

In this 60-day notice, FRA makes adjustments that will reduce the currently approved burden hours from 507 to 141 hours. The reduced burden hours are a result of 126 one-time start-up burden hours required by Amtrak to initially create a system to process, prepare, and submit this data. Now that a system has been implemented, the estimated timeframe it takes to produce the data has been reduced and is reflected in the adjusted burden hours for each of the requirement that are being completed under the following sections:

§ 273.5(b) Ridership data—10-hour start-up burden.

§ 273.5(c) Certified schedule—26-hour start-up burden.

§ 273.5(f) Station performance—20-hour start-up burden.

§ 273.5(g) Host running time—40-hour start-up burden.

§ 273.11(b) Missed connections—10-hour start-up burden.

§ 273.11(c) Community access—10-hour start-up burden.

§ 273.11(d) Service availability—10-hour start-up burden.

Additionally, under § 273.5(c)(2), the estimated burden has been reduced from 300 to 60 hours to accurately reflect the number of anticipated responses for the next three-year information collection period, based on experience from the first three years this regulation was in effect.

Type of Request: Extension without change (with changes in estimates) of a currently approved collection.

Affected Public: Amtrak.

Form(s): N/A.

Respondent Universe: Amtrack and Host Railroad(s).

Frequency of Submission: Varied.

Reporting Burden
CFR section | Respondent universe | Total annual responses | Average time per responses (hours) | Total annual burden hours | Wage rate ² | Total cost equivalent in U.S dollars
|  | (A) | (B) | (C = A * B) | (E) | (D = C * E)
273.5(a)—Customer on-time performance | 1 railroad | 4 | 1 | 4 | $85.93 | $343.72
273.5(b)—Ridership data | 1 railroad | 12 | 1 | 12 | 85.93 | 1,031.16
273.5(c)—Certified schedule | 1 railroad | 1 | 1 | 1 | 85.93 | 85.93
273.5(c)(2)—Monthly letter to U.S. Congress and other officials | Amtrack and Host railroad | 12 | 5 | 60 | 85.93 | 5,155.80
273.5(d)—Train delays | 1 railroad | 4 | 1 | 4 | 85.93 | 343.72
273.5(e)—Train delays per 10,000 train miles | 1 railroad | 4 | 1 | 4 | 85.93 | 343.72
273.5(f)—Station performance | 1 railroad | 4 | 1 | 4 | 85.93 | 343.72
273.5(g)—Host running time | 1 railroad | 4 | 1 | 4 | 85.93 | 343.72
273.7(a)—Customer satisfaction | 1 railroad | 4 | 1 | 4 | 85.93 | 343.72
273.7(b)—Amtrak personnel | 1 railroad | 4 | 1 | 4 | 85.93 | 343.72
273.7(c)—Information given | 1 railroad | 4 | 1 | 4 | 85.93 | 343.72
273.7(d)—On-board comfort | 1 railroad | 4 | 1 | 4 | 85.93 | 343.72
273.7(e)—On-board cleanliness | 1 railroad | 4 | 1 | 4 | 85.93 | 343.72
273.7(f)—On-board food service | 1 railroad | 4 | 1 | 4 | 85.93 | 343.72
273.9(a)—Cost recovery | 1 railroad | 4 | 1 | 4 | 85.93 | 343.72
273.9(b)—Avoidable operating costs covered by passenger revenue | 1 railroad | 4 | 1 | 4 | 85.93 | 343.72
273.9(c)—Fully allocated core operating costs covered by passenger revenue | 1 railroad | 4 | 1 | 4 | 85.93 | 343.72
273.9(d)—Average ridership | 1 railroad | 4 | 1 | 4 | 85.93 | 343.72
273.9(e)—Total ridership | 1 railroad | 4 | 1 | 4 | 85.93 | 343.72
273.11(a)—Connectivity | 1 railroad | 1 | 1 | 1 | 85.93 | 85.93
273.11(b)—Missed connections | 1 railroad | 1 | 1 | 1 | 85.93 | 85.93
273.11(c)—Community access | 1 railroad | 1 | 1 | 1 | 85.93 | 85.93
273.11(d)—Service availability | 1 railroad | 1 | 1 | 1 | 85.93 | 85.93
Total ³ | Amtrak and host railroad | 93 | N/A | 141 |  | 12,116

Total Estimated Annual Responses: 93.

² The dollar equivalent cost is derived from the 2022 Surface Transportation Board Full Year Wage A&B data series using employee group 200 (Professional & Administrative) hourly wage rate of $49.10. The total burden wage rate (straight time plus 75%) used in the table is $85.93 ($49.10 × 1.75 = $85.93).

³ Totals may not add up due to rounding.

Total Estimated Annual Burden: 141 hours.

Total Estimated Annual Burden Hour Dollar Cost Equivalent: $12,116.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2024-03478 Filed 2-20-24; 8:45 am]

BILLING CODE 4910-06-P